DEPARTMENT OF HEALTH AND HUMAN SERVICES

Administration on Community Living

Availability of Program Instructions for MIPPA Funds Program Title: Medicare Improvements for Patients and Providers Act: State Plans for Medicare Savings Program, Low Income Subsidy & Prescription Drug Enrollment Outreach and Assistance

Announcement Type: Initial.

Funding Opportunity Number: AOA-MI-14-001

Statutory Authority: The Medicare Improvements for Patients and Providers Act of 2008—Section 119, Public Law (PL) 110-275 as amended by the Patient Protection and Affordable Care Act of 2010 (Affordable Care Act), reauthorized by the American Taxpayer Relief Act of 2012 (ATRA) and reauthorized by section 110 of the Protecting Access to Medicare Act of 2014.

Catalog of Federal Domestic Assistance (CFDA) Number: 93.071.

DATES: The deadline date for the submission of MIPPA state plans is 11:59PM EST 08/04/2014.

I. Funding Opportunity Description

The purpose of the funding is to enhance efforts through statewide and local coalition building focused on intensified outreach activities to help beneficiaries likely to be eligible for the Low Income Subsidy program (LIS), Medicare Savings Program (MSP), Medicare Prescription Drug Coverage (Part D) and in assisting beneficiaries in applying for benefits. ACL will provide funding to State Health Insurance Assistance Programs (SHIPs), Area Agencies on Aging (AAAs), and Aging and Disability Resource Center programs (ADRCs), to inform older Americans about available Federal and State benefits. ACL seeks plans from states that will describe how the MIPPA funds will be used for beneficiary outreach and education over the next three years.

ACL requests that states submit a three year state plan with specific project strategies to expand, extend, or enhance the outreach efforts to beneficiaries on Medicare Part D and for those with limited incomes. States should describe how the SHIP, AAA, and ADRC efforts will be coordinated to provide outreach to beneficiaries with limited incomes statewide, for general Medicare Part D outreach and assistance to beneficiaries in rural areas, and for outreach activities aimed at Medicare prevention and wellness benefits as well as the improvements in the Part D program under the Affordable Care Act as mandated by Section 3306 of the Act. States are asked to review their 2013 MIPPA plans and update these plans to reflect successes achieved to date and direct their efforts to enhance and expand their MIPPA outreach activities.

State agencies may prepare either one statewide plan or separate plans for each eligible State agency.

II. Award Information

1. Funding Instrument Type

These awards will be made in the form of grants to State Agencies for each MIPPA Priority Area.

Priority Area 1—Grants to State Agencies (the State Unit on Aging or the State Department of Insurance) that administer the State Health Insurance Assistance Programs to provide enhanced outreach to eligible Medicare beneficiaries regarding their benefits and enhanced outreach to individuals who may be eligible for the LIS or for the MSP.

Priority Area 2—Grants to State Units on Aging for AAAs to provide enhanced outreach to eligible Medicare beneficiaries regarding their benefits and enhanced outreach to individuals who may be eligible for the LIS, MSP, Medicare Part D and Part D in rural areas.

Priority Area 3—Grants to State Units on Aging that administer the Aging and Disability Resource Centers to provide outreach to individuals regarding the benefits available under Medicare Part D and under the MSP. Funds will be allocated to ADRCs via a formula patterned after the statutory formula used for SHIPs and AAAs.

2. Anticipated Total Priority Area Funding per Budget Period

ACL intends to make available, under this program announcement, grant awards for the three MIPPA priority areas. Funding will be distributed through a formula as identified in statute. The amounts allocated are based upon factors defined in statute and will be distributed to each priority area based on the formula. ACL will fund total project periods of up to three (3) years contingent upon availability of federal funds.

Priority Area 1—SHIP: $7.5 million in FY 14 for state agencies that administer the SHIP Program.

Priority Area 2—AAA: $7.5 million in FY 14 for SUAs for Area Agencies on Aging and for Native American programs. Funding for Native American Programs ($264,000) is deducted from Priority 2 and is being allocated through a separate process.

Priority Area 3—ADRC: $5 million in FY 2014 for state agencies that administer ADRC programs that were established prior to March 2014.

III. Eligibility Criteria and Other Requirements

1. Eligible Applicants

MIPPA Priority Areas 1, 2 and 3: Awards made under this announcement, by statute, will be made only to agencies of State Governments.

Priority Area 1: Only existing SHIP grant recipients are eligible to apply.

Priority Area 2: Only State Units on Aging are eligible to apply.

Priority Area 3: Only State Agencies that received an ACL and CMS Aging and Disability Resource Center (ADRC) grant where the ADRC was established by March, 2014 are eligible in FY 2014. Eligibility may change if future funding is available.

2. Cost Sharing or Matching

Cost Sharing does not apply.

3. DUNS Number

All grant applicants must obtain and keep current a D-U-N-S number from Dun and Bradstreet. It is a nine-digit identification number, which provides unique identifiers of single business entities. The D-U-N-S number can be obtained from: https://iupdate.dnb.com/iUpdate/viewiUpdateHome.htm.

4. Intergovernmental Review

Executive Order 12372, Intergovernmental Review of Federal Programs, is not applicable to these grant applications.

IV. Submission Information

1. Application Kits

Application kits/Program Instructions are available at www.grantsolutions.gov. Instructions for completing the application kit will be available on the site.

2. Submission Dates and Times

To receive consideration, applications must be submitted by 11:59 p.m. Eastern time on August 4, 2014.

VII. Agency Contacts

Direct inquiries regarding programmatic issues to U.S. Department of Health and Human Services, Administration on Aging, Office of Supportive and Caregiver Services, Washington, DC 20201, attention: Katherine Glendening or by calling 202-357-3859, or by email Katherine.Glendening@acl.hhs.gov.

Dated: June 24, 2014.
Kathy Greenlee,
Administrator and Administration on Aging.

[FR Doc. 2014-15149 Filed 6-26-14; 8:45 am]

BILLING CODE 4154-01-P